DEPARTMENT OF TRANSPORTATION

Federal Aviation Administration

14 CFR Part 71

[Docket No. FAA-2003-16587; Airspace Docket No. 03-AAL-22]

Amendment of Class E Airspace; Juneau, AK

AGENCY: Federal Aviation Administration (FAA), DOT.

ACTION: Final rule.

SUMMARY: This action amends Class E airspace at Juneau, AK to provide adequate controlled airspace to contain aircraft executing a new Standard Instrument Approach Procedure (SIAP). This Rule results in additional Class E surface area airspace at Juneau, AK.

EFFECTIVE DATE: 0901 UTC, June 10, 2004.

FOR FURTHER INFORMATION CONTACT: Jesse Patterson, AAL-538G, Federal Aviation Administration, 222 West 7th Avenue, Box 14, Anchorage, AK 99513-7587; telephone number (907) 271-5898; fax: (907) 271-2850; e-mail: Jesse.ctr.Patterson@faa.gov. Internet address: http://www.alaska.faa.gov/at.

SUPPLEMENTARY INFORMATION:

History

On Wednesday, January 14, 2004, the FAA proposed to revise part 71 of the Federal Aviation Regulations (14 CFR part 71) to create additional Class E surface area airspace at Juneau, AK (69 FR 2086). The action was proposed in order to add Class E surface area airspace sufficient in size to contain aircraft while executing a new SIAP for the Juneau Airport. The new approach is Area Navigation-Global Positioning System (RNAV GPS) Runway 8 original. Amended Class E controlled airspace extending upward from the surface within 2.8 miles south and 2.2 miles north of the Juneau Localizer west course, extending from the 3-mile radius of the Juneau International Airport to 8.9-miles west of the Juneau International Airport is established by this action. Interested parties were invited to participate in this rulemaking proceeding by submitting written comments on the proposal to the FAA. No public comments have been received, thus, the rule is adopted as proposed.

The area will be depicted on aeronautical charts for pilot reference. The coordinates for this airspace docket are based on North American Datum 83. The Class E4 airspace areas designated as an extension to a Class D or Class E surface area are published in paragraph 6004 of FAA Order 7400.9L, Airspace Designations and Reporting Points, dated September 2, 2003, and effective September 16, 2003, which is incorporated by reference in 14 CFR 71.1. The Class E airspace designation listed in this document will be revoked and revised subsequently in the Order.

The Rule

This revision to 14 CFR part 71 establishes Class E airspace at Juneau, Alaska. This additional Class E airspace was created to accomodate aircraft executing a new SIAP and will be depicted on aeronautical charts for pilot reference. The intended effect of this rule is to provide adequate controlled airspace for IFR operations at Juneau Airport, Juneau, Alaska.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9L, Airspace Designations and Reporting Points, dated September 2, 2003, and effective September 16, 2003, is amended as follows:

* * * * *

Paragraph 6004 Class E airspace designated as an extension to a Class D or Class E surface area.

* * * * *

AAL AK E4 Juneau, AK [Amended]

Juneau Airport, AK

(Lat. 58°21′18″ N., long. 134°34′35″ W.)

Juneau Localizer

(Lat. 58°21′32″ N, long. 134°38′10″ W.)

That airspace extending upward from the surface within 2.8 miles south and 2.2 miles north of the Juneau Localizer west course, extending from the 3-mile radius of the Juneau International Airport to 8.9 miles west of the Juneau International Airport.

* * * * *

Issued in Anchorage, AK, on March 12, 2004.
Anthony M. Wylie,
Acting Manager, Air Traffic Division, Alaskan Region.

[FR Doc. 04-6380 Filed 3-22-04; 8:45 am]

BILLING CODE 4910-13-P